DEPARTMENT OF ENERGY

Federal Energy Regulatory Commission

[Project No. 14240-000]

Mona South Pumped Storage Project; Notice of Preliminary Permit Application Accepted for Filing and Soliciting Comments, Motions To Intervene, and Competing Applications

On August 1, 2011, Mona South Pumped Storage Project, LLC, California, filed an application for a preliminary permit, pursuant to section 4(f) of the Federal Power Act (FPA), proposing to study the feasibility of the Mona South Pumped Storage Project (Mona South Pumped Storage Project or Project) to be located within Wide Canyon, 4 miles southwest of Mona, Juab County, Utah. The project affects federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) An underground powerhouse containing the pump-turbines and motor-generators; (2) a waterway roughly 7,100 feet-long, including inlet/outlet structures at each reservoir, headrace tunnel, pressure shaft, buried penstock, and tailrace features connecting the upper reservoir, the underground powerhouse and the lower reservoir; (3) transmission line connecting the underground powerhouse to the proposed PacifiCorp/Rocky Mountain Power Clover Substation; (4) a two reservoir construction (upper reservoir), a 370 feet-long by 3,000 feet-long concrete-faced dam located within Wide Canyon bordered by Middle Ridge and Long Ridge having a storage capacity of about 20,400 acre-feet and a water surface area of 218 acres at full pool elevation of 6,480 above mean sea level (msl); (5) a 110 foot-high and 13,000 feet-high, earthfill ring dike (lower reservoir) with a water surface area of about 261 acres Full pool elevation 5,880 feet msl; (6) location of lower reservoir and length of water-way connection will be determined later to ensure efficiency; (7) optimization of generation and energy storage ranging from a 4 unit, 500 megawatts (MW) (4 units × 125 MW unit) to a 4 unit, 1,000 MW (4 units × 250 MW unit) allowing for 8 to 10 hours of continuous output; (8) Project's interconnection at this new substation would require roughly 5 mile-long transmission line connecting powerhouse to the substation, which my be one or two circuts. Interconnection voltage may be 230 or 500 kilovolts; and (9) annual generation would be within 1,800 to 4,500 gigawatthours depending on constructed option.

Applicant Contact: Mr. Nathan Sandvig, Mona North Pumped Storage Project, LLC c/o enXco Development Corporation, 517 SW 4th Avenue, Suite 300, Portland, OR 97204; phone (503) 219-3166.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14240-000) in the docket number field to access the document. For assistance, contact FERC Online Support.

Dated: September 23, 2011.
Kimberly D. Bose,
Secretary.

[FR Doc. 2011-25057 Filed 9-28-11; 8:45 am]

BILLING CODE 6717-01-P